DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than (insert date ten days after publication in FR).

Interested persons are invited to submit written comments regarding the subject matter of the investigations to the Director, Office of Trade Adjustment Assistance, at the address shown below, not later than (insert date ten days after publication in FR).

The petitions filed in this case are available for inspection at the Office of the Director, Office of Trade Adjustment Assistance, Employment and Training Administration, U.S. Department of Labor, Room N-5428, 200 Constitution Avenue NW., Washington, DC 20210.

Signed at Washington, DC, this 11th day of July 2016.
Jessica R. Webster,
Certifying Officer, Office of Trade Adjustment Assistance.

Appendix
[44 TAA Petitions Instituted Between 6/27/16 and 7/8/16]
TA-W | Subject firm (petitioners) | Location | Date of institution | Date of petition
91959 | Madden Timberlands, Inc. (Company) | Old Town, ME | 06/27/16 | 06/24/16
91960 | Dana Holding Corporation (Union) | Glasgow, KY | 06/27/16 | 06/26/16
91961 | Matthew-Aurora Casket Company (Union) | Aurora, IN | 06/27/16 | 06/24/16
91962 | Minnesota Wire (Workers) | Eau Claire, WI | 06/27/16 | 06/21/16
91963 | IBM (Workers) | Camp Hill, PA | 06/27/16 | 06/20/16
91964 | Acuity Brands/Mark Lighting (State/One-Stop) | Edison, NJ | 06/27/16 | 06/24/16
91965 | Masonite Architectural Door Division (Union) | Algoma, WI | 06/27/16 | 06/24/16
91966 | Transitions Optical, Inc. (State/One-Stop) | Pinellas Park, FL | 06/28/16 | 06/27/16
91967 | Prime Electric Motors, Inc. C/O Madison Paper (State/One-Stop) | Madison, ME | 06/28/16 | 06/27/16
91968 | Noranda Intermediate Holding Corporation (Company) | Franklin, TN | 06/28/16 | 06/27/16
91969 | Silvanus Products Inc. (State/One-Stop) | St. Geneviere, MO | 06/28/16 | 06/27/16
91970 | ATOS (State/One-Stop) | Mountain Lakes, NJ | 06/29/16 | 06/28/16
91971 | InnoVista Sensors (State/One-Stop) | Thousand Oaks, CA | 06/29/16 | 06/28/16
91972 | Sensata Technologies (State/One-Stop) | Springfield, TN | 06/29/16 | 06/28/16
91973 | International Business Machines (Workers) | Austin, TX | 06/29/16 | 06/28/16
91974 | W.W. Grainger (State/One-Stop) | Lake Forest, IL | 06/30/16 | 06/29/16
91975 | Cascades Auburn Fiber (Company) | Auburn, ME | 06/30/16 | 06/29/16
91976 | Motorola Solutions, Inc. (Workers) | Schaumburg, IL | 06/30/16 | 04/25/16
91977 | TE Connectivity, AD&M or Areo Space and Defense Division (Workers) | Middletown, PA | 07/01/16 | 06/30/16
91978 | Caterpillar (Workers) | Thomasville, GA | 07/05/16 | 07/01/16
91979 | GE Transportation Engine System (State/One-Stop) | Latham, NY | 07/05/16 | 07/01/16
91980 | American Express (Workers) | Phoenix, AZ | 07/05/16 | 07/03/16
91981 | Gap Inc. (Workers) | New York, NY | 07/05/16 | 04/22/16
91982 | Caterpillar (State/One-Stop) | Thomasville, GA | 07/06/16 | 07/01/16
91983 | CDK Global, f/k/a ADP (State/One-Stop) | Ann Arbor, MI | 07/06/16 | 07/05/16
91984 | EMC Corporation (State/One-Stop) | Hopkinton, MA | 07/06/16 | 07/05/16
91985 | GE Energy (Union) | Pineville, LA | 07/06/16 | 07/05/16
91986 | Grede II LLC (Company) | Bessemer, AL | 07/06/16 | 07/05/16
91987 | Audatex, Audaexplore a Solera Company, Solera Holdings Inc. (Workers) | San Diego, CA | 07/06/16 | 07/05/16
91988 | Paccar Winch—Okmulgee Branch (State/One-Stop) | Broken Arrow, OK | 07/07/16 | 07/06/16
91989 | Emerson Electric Company dba White-Rodgers (State/One-Stop) | El Paso, TX | 07/07/16 | 07/06/16
91990 | Quality Saws and Supplies (Company) | West Enfield, ME | 07/07/16 | 07/07/16
91991 | Caterpillar Inc. (Company) | Morganton, NC | 07/07/16 | 07/06/16
91992 | Quad Graphics, East Greenville (Workers) | East Greenville, PA | 07/07/16 | 07/06/16
91993 | The Timken Company (Union) | North Canton, OH | 07/07/16 | 07/06/16
91994 | Strippit LVD (Union) | Akron, NY | 07/08/16 | 07/01/16
91995 | The Boeing Company (State/One-Stop) | St. Louis, MO | 07/08/16 | 07/07/16
91996 | Electrofilm Manufacturing Co. (State/One-Stop) | Valencia, CA | 07/08/16 | 07/07/16
91997 | Pall Corporation (State/One-Stop) | Port Washington, NY | 07/08/16 | 07/07/16
91998 | The Kasper Group (State/One-Stop) | New York, NY | 07/08/16 | 07/07/16
91999 | Fluke (Company) | Everett, WA | 07/08/16 | 07/07/16
92000 | Greatbatch, Ltd (State/One-Stop) | Plymouth, MN | 07/08/16 | 07/07/16
92001 | Boise Paper Holdings, LLC/Packaging Corporation of America (PCA)/Tharco (Workers) | Santa Fe Springs, CA | 07/08/16 | 07/08/16
92002 | Havells USA (Workers) | Atlanta, GA | 07/08/16 | 07/08/16

[FR Doc. 2016-18409 Filed 8-3-16; 8:45 am]

BILLING CODE 4510-FN-P